DEPARTMENT OF TRANSPORTATION

Pipeline and Hazardous Materials Safety Administration

Hazardous Materials: Notice of Applications for Special Permits

AGENCY: Pipeline and Hazardous Materials Safety Administration (PHMSA), DOT.

ACTION: List of applications for modification of special permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before December 27, 2016.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with Part 107 of the Federal hazardous materials transportation law (49 U.S.C. 5117(b); 49 CFR 1.53(b)).

Issued in Washington, DC, on November 2, 2016.
Donald Burger,
Chief, Office of the Special Permits and Approvals.

Special Permits Data
Application No. | Docket No. | Applicant | Regulation(s) affected | Nature of the special permits thereof
12074-M |  | Van Hool NV | 178.276(b) | To modify the special permit to authorize an increase in the maximum USWG.
13220-M |  | Entegris, Inc | 173.192, 173.302, 173.304 | To modify the special permit to authorize an increase in the maximum vacuum brake temperature.
13301-M |  | United Technologies Corporation | 172.200, 172.300, 172.400 | To authorize the transportation in commerce of certain hazardous materials for a distance of approximately 1700 feet without proper hazard communication.
14039-M |  | Van Hool NV | 178.274(b), 178.276(b) | To modify the special permit to authorize an increase in the maximum USWG.
14206-M |  | Digital Wave Corporation | 172.203, 180.205, 172.301, 173.302A | To modify the special permit to authorize Ultrasonic Examination of certain DOT UN refillable pressure receptacles and cylinders.
14335-M |  | Rinchem Company, Inc | 177.848(d), 172.301(c), 172.302(c) | To modify the special permit to authorize a change in ventilation requirements to allow for a refrigeration/blower ventilation system.
16343-M |  | Digital Wave Corporation | 180.205(g) | To modify the special permit to clarify some of the language in the permit pertaining to use of the approved packaging.
20248-M |  | Total Feuerschultz GmbH | 173.309(c)(4) | To modify the special permit to authorize the transportation in commerce of previously produced fire extinguishers which are not marked with the “MEETS DOT REQUIREMENTS” stamp.
20255-M |  | Stericycle Specialty Waste Solutions, Inc | 171.1, 180.1 | To modify the special permit originally issued as an emergency to a permanent one.

[FR Doc. 2016-27725 Filed 11-23-16; 8:45 am]

BILLING CODE 4909-60-M